DEPARTMENT OF AGRICULTURE

Forest Service

Snow King Mountain Resort On-Mountain Improvements Project Environmental Impact Statement. Bridger-Teton National Forest, Jackson Ranger District, Teton County, Wyoming

AGENCY: Forest Service, USDA.

ACTION: Correction and extension of comment period.

SUMMARY: The USDA Forest Service, Bridger-Teton National Forest (BTNF) published in the Federal Register on August 3, 2018 a Notice of Intent (NOI) to prepare an Environmental Impact Statement (EIS) for the Snow King Mountain Resort On-mountain Improvements Project. The NOI referenced an incorrect project website address and the date the comment period ends was unclear; this notice provides a technical correction to the NOI to provide the correct website and also clarifies and extends the scoping comment period.

FOR FURTHER INFORMATION CONTACT: Mary Moore, Jackson District Ranger, marymoore@fs.fed.us or (307) 739-5410. Individuals who use telecommunication devices for the deaf (TDD) may call the Federal Information Relay Service (FIRS) at 1-800-877-8339 between 8:00 a.m. and 8:00 p.m., Eastern Time, Monday through Friday.

SUPPLEMENTARY INFORMATION:

Correction

In the Federal Register on August 3, 2018 (83 FR 38117), on p. 38117, in the first column, correct the DATES caption to read:

DATES: Comments concerning the scope of the analysis must be received by September 13, 2018.

Correction

In the Federal Register on August 3, 2018 (83 FR 38117) on page 38118, in the second column, correct the first paragraph (under SUPPLEMENTARY INFORMATION caption, in the Proposed Action subheading) to read:

A more detailed description of the proposed action, including maps, is available at: http://www.fs.usda.gov/project/?project=54201.

Dated: August 6, 2018.
Kevin Heikkila,
Acting Associate Deputy Chief, National Forest System.

[FR Doc. 2018-17511 Filed 8-13-18; 8:45 am]

BILLING CODE 3411-15-P